SECURITIES AND EXCHANGE COMMISSION

[OMB Control No. 3235-0785]

Submission for OMB Review; Comment Request; Extension: Rule 18a-10

Upon Written Request, Copies Available From: Securities and Exchange Commission, Office of FOIA Services, 100 F Street NE, Washington, DC 20549-2736

Notice is hereby given that, pursuant to the Paperwork Reduction Act of 1995 (“PRA”) (44 U.S.C. 3501 et seq.), the Securities and Exchange Commission (“Commission”) has submitted to the Office of Management and Budget (“OMB”) a request for approval of extension of the previously approved collection of information provided for in Rule 18a-10 (17 CFR 240.18a-10), under the Securities Exchange Act of 1934 (15 U.S.C. 78a et seq.).

Exchange Act Rule 18a-10 provides an alternative compliance mechanism pursuant to which stand-alone security-based swap dealers (“SBSDs”) registered as a swap dealer that predominantly engages in a swaps business, and that meet certain conditions set forth in the rule, may elect to comply with the capital, margin, segregation, recordkeeping, and reporting requirements of the Commodity Exchange Act (“CEA”) and the U.S. Commodity Futures Trading Commission's (“CFTC”) rules in lieu of complying with SEC Rules 18a-1, and 18a-3 through 18a-9. Rule 18a-10 requires the firm to provide a written disclosure to its counterparties after it begins operating pursuant to the rule. Furthermore, Rule 18a-10 requires the firm to immediately notify the Commission and the CFTC in writing if it fails to meet a condition in the rule.

There are currently two stand-alone SBSDs operating pursuant to the alternative compliance mechanism. The Commission estimates that these two stand-alone SBSDs will each spend 5 hours per year updating the disclosure language required under paragraph (b)(2) of Rule 18a-10, and that one of these stand-alone SBSDs will file the notice with the Commission required under paragraph (b)(3) of Rule 18a-10, which will impose a burden of 5 minutes per year. Consequnenty, the Commission estimates that the total hour burden under Rule 18a-9 is approximately 11 hours per year. Since the last approval of this information collection, the estimated total burden hours per year has decreased due to a decrease in the estimated number of respondents subject to the requirements of the Rule and as a result of certain initial burdens no longer applying.

An agency may not conduct or sponsor, and a person is not required to respond to, a collection of information under the PRA unless it displays a currently valid OMB control number.

Public Comment Instructions: The 30-day public comment period for this information collection request closes at the end of the day on January 21, 2025. The public may view the full information request and submit comments at https://www.reginfo.gov/public/do/PRAViewICR?ref_nbr=202409-3235-002 or email comments to MBX.OMB.OIRA.SEC_desk_officer@omb.eop.gov.

Dated: December 16, 2024.
Sherry R. Haywood,
Assistant Secretary.

[FR Doc. 2024-30366 Filed 12-19-24; 8:45 am]

BILLING CODE 8011-01-P